SECURITIES AND EXCHANGE COMMISSION

Issuer Delisting: Notice of Application to Withdrawal From Listing and Registration on the New York Stock Exchange, Inc. (Bankers Trust Corporation and BT Alex. Brown Holdings Incorporated, 7⅝% Senior Notes (due 2005)) File No. 1-5920

March 22, 2002.

Bankers Trust Corporation and BT Alex. Brown Holdings Incorporated (“Issuer”), has filed an application with the Securities and Exchange Commission (“Commission”), pursuant to section 12(d) of the Securities Exchange Act of 1934 (“Act”) ¹ and Rule 12d2-2(d) thereunder,² to withdraw its 7⅝% Senior Notes (due 2005) (“Security”), from listing and registration on the New York Stock Exchange, Inc. (“NYSE” or “Exchange”).

¹ 15 U.S.C. 78l(d).

² 17 CFR 240.12d2-2(d).

On January 24, 2002, and February 5, 2002, respectively, the Board of Directors of the Issuer adopted resolutions to terminate the NYSE listing of its Security. In June 1999, the Issuer was acquired by Deutsche Bank AG and the Issuer's common stock was terminated on the NYSE. The Issuer states that it wishes to reduce the administrative burden to former entities that are not actively engaged in customer business. In addition, as a part of the efforts of Deutsche Bank AG to promote a more uniform brand in the United States, the Issuer has proposed that the name of the Corporation be changed to Deutsche Bank Trust Corporation, effective on or about April 15, 2002. The Issuer states that withdrawal of the Security from listing and registration on the NYSE will not affect an investor's ability to trade in the over-the-counter market. The Security currently has a limited number of registered holders. The Issuer is not obligated by the terms of the indenture under which the Security was issued or by any other document to maintain a listing on the NYSE or any other exchange. The Company has stated that the NYSE does not intend to object to the withdrawal of the Security.

Any interested person may, on or before April 15, 2002, submit by letter to the Secretary of the Securities and Exchange Commission, 450 Fifth Street, NW., Washington, DC 20549-0609, facts bearing upon whether the application has been made in accordance with the rules of the NYSE and what terms, if any, should be imposed by the Commission for the protection of investors. The Commission, based on the information submitted to it, will issue an order granting the application after the date mentioned above, unless the Commission determines to order a hearing on the matter.

³ 17 CFR 200.30-3(a)(1).

For the Commission, by the Division of Market Regulation, pursuant to delegated authority.³
Jonathan G. Katz,
Secretary.

[FR Doc. 02-7464 Filed 3-27-02; 8:45 am]

BILLING CODE 8010-01-P